DEPARTMENT OF THE INTERIOR

Bureau of Reclamation

[RR06230000, 15XR0680A1, RN.07694998.0000501]

Notice of Availability of the Northwest Area Water Supply Project Final Supplemental Environmental Impact Statement; Burke, Bottineau, Divide, McHenry, McLean, Mountrail, Pierce, Renville, Ward, and Williams Counties, North Dakota

AGENCY: Bureau of Reclamation, Interior.

ACTION: Notice of availability.

SUMMARY: The Bureau of Reclamation (Reclamation) is notifying the public that Reclamation has prepared a Final Supplemental Environmental Impact Statement (SEIS) for the Northwest Area Water Supply Project (Project). Reclamation has evaluated comments received from the public on the Draft SEIS and is recommending a preferred alternative for approval. The Missouri River and Groundwater Alternative would provide a high quality and reliable water supply to meet existing and future water needs. This alternative would include conventional treatment at the biota water treatment plant, located within the Missouri River Basin, and the proposed intake for the Project would be located within Reclamation's Snake Creek Pumping Plant on Lake Sakakawea.

DATES: Reclamation will not make a decision on the proposed action until at least 30 days after filing of the Final SEIS. After the 30-day waiting period, Reclamation will complete a Record of Decision. The Record of Decision will identify the selected action for implementation and will discuss factors and rationale used in making the decision.

FOR FURTHER INFORMATION CONTACT: Ms. Alicia Waters, Project Manager, (701) 221-1206; or by email at awaters@usbr.gov. The Final SEIS and additional information is available at http://www.usbr.gov/gp/dkao. Send requests for an executive summary and compact disc to Ms. Alicia Waters, Bureau of Reclamation, P.O. Box 1017, Bismarck, North Dakota 58502, or at the email address above.

SUPPLEMENTARY INFORMATION: Pursuant to the National Environmental Policy Act of 1969, the Final SEIS documents the potential direct, indirect, and cumulative environmental and socioeconomic effects of the proposed action to construct a municipal, rural and industrial (MR&I) water system to provide drinking water to local communities and rural water systems in northwestern North Dakota. The Project is sized to serve projected population growth through the year 2060. Water provided by the Project would be treated to meet the primary drinking water standards established by the Safe Drinking Water Act. The Project would supply water to specific delivery points. Each community or rural water system would be responsible for connecting to the distribution line and delivering water through their water system to end users. The Project was authorized by the Garrison Diversion Reformulation Act of 1986 and the Dakota Water Resources Act of 2000 as part of the MR&I Grant Program.

Four action alternatives were evaluated in the Final SEIS. These alternatives fall into two categories—those using only inbasin water sources (Souris River and groundwater) and those proposing to use water from the Missouri River (Lake Sakakawea). The preferred alternative, Missouri River and Groundwater Alternative, would use Lake Sakakawea as the primary water source. This water would be conveyed to the biota water treatment plant where it would be treated using conventional treatment processes. After treatment at the biota water treatment plant, the water would be conveyed in a buried pipeline to the Minot water treatment plant and blended with water from the Minot and Sundre aquifers. Following this treatment, water would be supplied to Project members through a distribution pipeline system.

Some of the resources potentially affected by the proposed action that are evaluated in the Final SEIS include: Surface water and groundwater resources, water quality, aquatic invasive species, threatened and endangered species, socioeconomics, environmental justice and historic properties. The geographic scope of analysis generally covers the Missouri and Souris river basins, and carries analysis into Canada as directed by the U.S. District Court.

A Notice of Availability of the Draft SEIS was published in the Federal Register on June 27, 2014 (79 FR 36556). The written comment period for the Draft SEIS was extended 30 days and concluded on September 10, 2014 (79 FR 45459). The Final SEIS contains responses to all substantive comments received, and reflects comments and additional information received during the review period.

Copies of the Final SEIS are available for public review at the following locations:

• Bureau of Reclamation, Dakotas Area Office, 304 East Broadway Avenue, Bismarck, ND 58501.

• Bureau of Reclamation, Great Plains Regional Office, 316 North 26th Street, Billings, MT 59101.

• Bureau of Reclamation, Denver Office Library, Building 67, Room 167, Denver Federal Center, 6th and Kipling, Denver, CO 80225.

• Natural Resources Library, U.S. Department of the Interior, 1849 C Street NW., Main Interior Building, Washington, DC 20240-0001.

• Bismarck Public Library, 515 North 5th Street, Bismarck, ND 58501.

• Bottineau City Hall, 115 West 6th Street, Bottineau, ND 58318.

• Minot Public Library, 516 2nd Avenue SW., Minot, ND 58701.

• Mohall Public Library, 115 Main Street West, Mohall, ND 58761.

• North Dakota State Library, 604 East Boulevard Avenue, Bismarck, ND 58505.

Dated: April 2, 2015.
John F. Soucy,
Deputy Regional Director, Great Plains Region.

[FR Doc. 2015-08142 Filed 4-9-15; 8:45 am]

BILLING CODE 4332-90-P